NATIONAL COUNCIL ON DISABILITY

Cultural Diversity Advisory Committee Meeting (Teleconference)

AGENCY: National Council on Disability (NCD). Pursuant to the Federal Advisory Committee Act, Public Law 92-463, NCD gives notice that the Cultural Diversity Advisory Committee will hold a meeting on the date and time noted below. The Committee will meet by conference call.

Date and Time: Thursday, November 15, 2007, 2 p.m. Eastern Standard Time.

Place: National Council on Disability, 1331 F Street, NW., Suite 850, Washington, DC 20004.

Status: All parts of this conference call will be open to the public. People interested in participating on this call should contact the appropriate staff member listed below. Due to limited resources, only a few telephone lines will be available for the conference call.

Agenda: Roll call, announcements, reports, new business, adjournment. A detailed agenda will be posted 10 days before each meeting at http://www.ncd.gov/newsroom/advisory/cultural/cultural.htm.

Contact Person for More Information: To obtain information on the meeting, including the call-in number, please contact Mark Seifarth or Stacey Brown, NCD, 1331 F Street NW., Suite 850, Washington, DC 20004, 202-272-2004 (voice), 202-272-2074 (TTY), 202-272-2022 (fax), cultural-diversity@ncd.gov (e-mail).

Cultural Diversity Advisory Committee Mission: The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

Accommodations: People needing reasonable accommodations should notify NCD at least two weeks before these meetings.

Dated: October 16, 2007.
Michael C. Collins,
Executive Director.

[FR Doc. E7-21034 Filed 10-24-07; 8:45 am]

BILLING CODE 6820-MA-P